ENVIRONMENTAL PROTECTION AGENCY

[FRL-7960-6]

Notice of Prevention of Significant Deterioration Final Determination for Cardinal FG Company

AGENCY: Environmental Protection Agency (EPA)

ACTION: Notice of final action.

SUMMARY: This document announces that on March 22, 2005, the Environmental Appeals Board (“EAB”) of EPA denied review of a petition for review of a Prevention of Significant Deterioration (“PSD”) permit (“Permit”) that the State of Washington's Department of Ecology (“Ecology”) issued to Cardinal FG Company (“Cardinal”) for construction and operation of a flat glass production plant (“Facility”) near Chehalis, Washington. The Permit was issued pursuant to 40 CFR 52.21. Ecology has the authority to issue PSD permits pursuant to the “Agreement for Partial Delegation of the Federal Prevention of Significant Deterioration (PSD) Program by the United States Environmental Protection Agency, Region 10 to the State of Washington Department of Ecology,” dated March 28, 2003 (“PSD Delegation Agreement”). The PSD Delegation Agreement was entered into pursuant to 40 CFR 52.21(u).

DATES: The effective date of the EAB's decision is March 22, 2005. Judicial review of this permit decision, to the extent it is available pursuant to section 307(b)(1) of the Clean Air Act (“CAA”), may be sought by filing a petition for review in the United States Court of Appeals for the Ninth Circuit within 60 days of August 26, 2005.

ADDRESSES: The documents relevant to the above action are available for public inspection during normal business hours at the following address: EPA, Region 10, 1200 Sixth Avenue (AWT-107), Seattle, Washington 98101. To arrange viewing of these documents, call Dan Meyer at (206) 553-4150.

FOR FURTHER INFORMATION CONTACT: Dan Meyer, EPA, Region 10, 1200 Sixth Avenue (AWT-107), Seattle, Washington 98101.

SUPPLEMENTARY INFORMATION: This supplemental information is organized as follows:

A. What Action Is EPA Taking?

B. What Is the Background Information?

C. What Did the EAB Decide?

A. What Action Is EPA Taking?

We are notifying the public of a final decision by the EAB on the Permit issued by Ecology pursuant to the PSD regulations found at 40 CFR 52.21.

B. What Is the Background Information?

The Facility will be a 650 ton-per-day flat-glass production plant located approximately five miles south of Chehalis, Washington. The Facility will employ the “3R Process” to limit carbon monoxide (“CO”) and nitrogen oxides (“NOX”) emissions from its natural gas-fired glass furnace.

On July 23, 2004, Ecology issued the draft Permit for public review and comment. On October 6, 2004, after providing an opportunity for public comment and holding a public hearing, Ecology issued the final Permit to Cardinal. On November 5, 2004, the Olympia and Vicinity Building and Construction Trades Council (“Petitioner”) petitioned the EAB for review of the Permit.

C. What Did the EAB Decide?

Petitioner raised the following issues on appeal: (1) Ecology improperly rejected “oxy-fuel technology” as technically infeasible to control CO and NOX emissions from the Facility's glass furnace, (2) Ecology failed to conduct a cost-effective analysis of oxy-fuel for limiting NOX and CO emissions, (3) Ecology's best available control technology (“BACT”) emission limits for the Facility's glass furnace should be more stringent, and (4) Ecology failed to conduct a BACT analysis for the Facility's “trackmobile.”

The EAB concluded that Petitioner failed to demonstrate that Ecology committed clear error in eliminating oxy-fuel as BACT due to concerns regarding its technical feasibility. Moreover, the EAB found that Ecology's determination regarding the issue of technical feasibility was sufficient to eliminate oxy-fuel as BACT without conducting a full cost effectiveness analysis. The EAB further concluded that the Petitioner failed to demonstrate that Ecology committed clear error in adopting NOX and CO emission limits, rather than the lower limits suggesting by the Petitioner. Last, the EAB concluded that Ecology correctly determined that the trackmobile is not subject to PSD review because the trackmobile does not fall within the statutory definition of “stationary source” under CAA section 302(z), 42 U.S.C. 7602(z). For these reasons, the EAB denied review of the petition for review in its entirety.

Pursuant to 40 CFR 124.19(f)(1), for purposes of judicial review, final agency action occurs when a final PSD permit is issued and agency review procedures are exhausted. This notice is being published pursuant to 40 CFR 124.19(f)(2), which requires notice of any final agency action regarding a PSD permit to be published in the Federal Register. This notice constitutes notice of the final agency action denying review of the PSD Permit and consequently, notice of Ecology's issuance of PSD Permit No. PSD-03-03 to Cardinal. If available, judicial review of these determinations under section 307(b)(1) of the CAA may be sought only by the filing of a petition for review in the United States Court of Appeals for the Ninth Circuit, within 60 days from the date on which this notice is published in the Federal Register. Under section 307(b)(2) of the CAA, this determination shall not be subject to later judicial review in any civil or criminal proceedings for enforcement.

Dated: August 11, 2005.
Ronald A. Kreizenbeck,
Acting Regional Administrator, Region 10.

[FR Doc. 05-17028 Filed 8-25-05; 8:45 am]

BILLING CODE 6560-50-M